DEPARTMENT OF HEALTH AND HUMAN SERVICES

Centers for Disease Control and Prevention

[Program Announcement 03022]

Chronic Disease Prevention and Health Promotion Programs; Notice of Availability of Funds; Amendment

A notice announcing the availability of fiscal year (FY) 2003 funds for a cooperative agreement program for Chronic Disease Prevention and Health Promotion Programs published in the Federal Register on January 23, 2003, Volume 68, Number 15, pages 3326-3359. The notice is amended as follows: On page 3326, in the third column, the first paragraph should read: Applications will be due on April 14, 2003. On page 3355, in the second column, Section H., paragraph three should read: The application must be received by 4 p.m. Eastern Time April 14, 2003.

Dated: April 4, 2003.
Sandra R. Manning,
Director, Procurement and Grants Office, Centers for Disease Control and Prevention.

[FR Doc. 03-8751 Filed 4-9-03; 8:45 am]

BILLING CODE 4163-18-P